DEPARTMENT OF EDUCATION

National Assessment Governing Board; Meeting

AGENCY: Department of Education, National Assessment Governing Board.

ACTION: Notice of open meeting and partially closed meetings.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. This notice is appearing in the Federal Register less than 15 days before the date of the meeting of the Board because of late additions to the closed meeting schedule. Individuals who will need special accommodations in order to attend the meeting (i.e.; interpreting services, assistive listening devices, materials in alternative format) should notify Munira Mwalimu at 202-357-6938 or at Munira.Mwalimu@ed.gov no later than July 31, 2009. We will attempt to meet requests after this date, but cannot guarantee availability of the requested accommodation. The meeting site is accessible to individuals with disabilities.

DATES: August 6-8, 2009.

Times

August 6: Committee Meetings

Assessment Development Committee: Closed Session—8:30 a.m. to 2 p.m.

Ad Hoc Committee on NAEP Testing and Reporting on Students with Disabilities and English Language Learners: Open Session—2 p.m. to4 p.m.

Executive Committee: Open Session—4:30 p.m. to 5 p.m.; Closed Session— 5 p.m. to 6 p.m.

August 7

Full Board: Open Session—8:30 a.m. to 9:45 a.m.; Closed Session—12:30 p.m. to 1:30 p.m.; Open Session—1:30 p.m. to 4:30 p.m.

Committee Meetings

Assessment Development Committee: Open Session—10 a.m. to 11 a.m.; Closed Session—11 a.m. to 12:15 p.m.

Committee on Standards, Design and Methodology: Open Session—10 a.m. to 12:15 p.m.

Reporting and Dissemination Committee: Open Session—10 a.m. to 12:15 p.m.

August 8

Nominations Committee: Closed Session—7:45 a.m. to 8:15 a.m.

Full Board: Closed Session—8:30 a.m. to 10 a.m.; Open Session—10 a.m. to 12 p.m.

Location: Mandarin Oriental Hotel, 1330 Maryland Avenue, SW., Washington, DC 20024.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment specifications and frameworks, developing appropriate student achievement levels for each grade and subject tested, developing standards and procedures for interstate and national comparisons, developing guidelines for reporting and disseminating results, and releasing initial NAEP results to the public.

On August 6, 2009, the Assessment Development Committee will meet in closed session from 8:30 a.m. to 2 p.m. and the Ad Hoc Committee on NAEP Testing and Reporting on Students with Disabilities and English Language Learners will meet in open session from 2 p.m. to 4 p.m. Thereafter, the Executive Committee will meet in open session from 4:30 p.m. to 5 p.m. and in closed session from 5 p.m. to 6 p.m.

During the closed session on August 6, 2009 the Assessment Development Committee will review secure NAEP test questions in grades 4, 8, and 12 for the 2010 operational assessments in U.S. History and secure writing prompts in the computer-based platform at grades 8 and 12 for the 2010 pilot test. The meeting must be conducted in closed session as disclosure of test items would significantly impede implementation of the NAEP program, and is therefore protected by exemption 9(B) of section 552b(c) of Title 5 U.S.C.

On August 6, 2009, the Executive Committee will receive a briefing from the National Center for Education Statistics (NCES) on options for NAEP contracts covering the 2008-2012 assessment years, based on funding for Fiscal Year 2009-2010. The discussion of contract options and costs will address the implications for congressionally mandated goals and adherence to Board policies on NAEP assessments. This part of the meeting must be conducted in closed session because public discussion of this information would disclose independent government cost estimates and contracting options, adversely impacting the confidentiality of the contracting process. Public disclosure of information discussed would significantly impede implementation of the NAEP contracts, and is therefore protected by exemption 9(B) of section 552b(c) of Title 5 U.S.C.

The second portion of the closed session of the Executive Committee is for discussion of nominees for the office of Vice-Chair of the Board for the one-year term from October 1, 2009 through September 30, 2010. Under the current NAGB by-laws, the Board selects a Vice-Chair from among its members. The Executive Committee will review the names of the candidates for Vice Chair, and will forward a recommendation to the whole Board for a final vote. These discussions pertain solely to internal personnel rules and practices of an agency and will disclose information of a personal nature where disclosure would constitute an unwarranted invasion of personal privacy. As such, the discussions are protected by exemptions 2 and 6 of section 552b(c) of Title 5 U.S.C.

On August 7, the full Board will meet in open session from 8:30 a.m. to 9:45 a.m. The Board will review and approve the agenda and the May 2009 Board meeting minutes. Following these actions, the Chairman will introduce the Governing Board's new Executive Director, Cornelia Orr, who will then address the Board. Following her remarks, John Easton, Director, Institute of Education Sciences, will provide some remarks and engage in open discussion with the Board. This will be followed by an update from the Acting Commissioner of Education, Stuart Kerachsky, on the work of the National Center for Education Statistics.

From 10 a.m. to 12:15 p.m., two of the Board's standing committees—the Reporting and Dissemination Committee, and the Committee on Standards, Design and Methodology will meet in open sessions. The Assessment Development Committee will meet in open session from 10 a.m. to 11 a.m. From 11 a.m. to 12:15 p.m. the Assessment Development Committee will meet in closed session to review secure writing prompts in the computer-based platform for the 2010 pilot test in grades 8 and 12 and reading passages at grade 4 for the 2010 special study on accessible booklets. This portion of the Assessment Development Committee is closed since disclosure of test items and data would significantly impede implementation of the NAEP program, and is therefore protected by exemption 9(B) of section 552b(c) of Title 5 U.S.C.

The full Board will meet in closed session from 12:30 p.m. to 1:30 p.m. to receive a briefing on the 2007 NCES Study on Mapping State Proficiency Standards onto the NAEP Scale from Peggy Carr, the Associate Commissioner of NCES. The Governing Board will be provided with embargoed data on the Mapping Study that cannot be discussed in an open meeting prior to their official release. Premature disclosure of data would significantly impede implementation of the NCES statistics program, and is therefore protected by exemption 9(B) of section 552b(c) of Title 5 U.S.C.

From 1:30 p.m. to 2:45 p.m., the full Board will receive a briefing on the Expert Panel reports to the Ad Hoc Committee on NAEP Testing and Reporting of Students with Disabilities and English Language Learners. This will be followed by an update on the Common Core Standards Project from 3 p.m. to 3:45 p.m. Thereafter, the Board will receive an update on the NAEP 2012 Technological Literacy Framework Project. The August 7 session of the Board meeting is scheduled to adjourn at 4:30 p.m.

On August 8, the Nominations Committee will meet in closed session from 7:45 a.m. to 8:15 a.m. to review and discuss confidential information regarding nominees received for Board vacancies for terms beginning on October 1, 2009. These discussions pertain solely to internal personnel rules and practices of an agency and will disclose information of a personal nature where disclosure would constitute an unwarranted invasion of personal privacy. As such, the discussions are protected by exemptions 2 and 6 of section 552b(c) of Title 5 U.S.C.

The full Board will meet in closed session on August 8 from 8:30 a.m. to 10 a.m. to receive a demonstration on NAEP Science Interactive Computer Tasks. The interactive computer tasks are secure items and cannot be discussed in an open meeting. Premature disclosure of the test items would significantly impede implementation of the NAEP program, and is therefore protected by exemption 9(B) of section 552b(c) of Title 5 U.S.C.

Thereafter, the Board will meet in open session from 10:15 a.m. to 12 p.m. to review and take action on Committee reports. The August 8, 2009 session of the Board meeting is scheduled to adjourn at 12 p.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Standard Time, Monday through Friday.

Electronic Access to This Document: You may view this document, as well as all other documents of this Department published in the Federal Register, in text or Adobe Portable Document Format (PDF) on the Internet at the following site: http://www.ed.gov/news/fedregister/index.html To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 21, 2009.
Cornelia Orr,
Executive Director, National Assessment Governing Board, U.S. Department of Education.

[FR Doc. E9-17728 Filed 7-23-09; 8:45 am]

BILLING CODE 4000-01-P